DEPARTMENT OF TRANSPORTATION

Maritime Administration

[Docket No. MARAD-2025-0086]

Request for Comments on the Renewal of a Previously Approved Collection: U.S. Merchant Marine Academy Candidate Application for Admission

AGENCY: Maritime Administration, DOT.

ACTION: Notice.

SUMMARY: The Maritime Administration (MARAD) invites public comments on our intention to request approval from the Office of Management and Budget (OMB) to renew an information collection in accordance with the Paperwork Reduction Act of 1995. The proposed collection OMB 2133-0010 (U.S. Merchant Marine Academy (USMMA) Candidate Application for Admission) is being updated to reflect the new Student Information System (SIS) and online application and admissions portal, as an alternate to the paper-based application and admissions process. We are required to publish this notice in the Federal Register to obtain comments from the public and affected agencies.

DATES: Comments must be submitted on or before July 28, 2025.

ADDRESSES: You may submit comments identified by Docket No. MARAD-2025-0086 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: CDR Mike Bedryk, 516-726-5641, Director, Office of Admissions, U.S. Merchant Marine Academy, 300 Steamboat Rd., Kings Point, NY 11024, Email: admissions@usmma.edu.

SUPPLEMENTARY INFORMATION:

Title: U.S. Merchant Marine Academy Candidate Application for Admission.

OMB Control Number: 2133-0010.

Type of Request: Extension with change of a previously approved collection.

Abstract: The Candidate Application for Admission is administered through the USMMA Student Information System (SIS), PeopleSoft Campus Solutions (UCAS). Candidates must create an applicant account and log into the SIS via login.gov. The application system will be used by the Office of Admissions and the Candidate Evaluation Board (CEB) to select the best qualified candidates for admission. Candidates will also provide contact information for guidance counselors, teachers and physical fitness evaluations, who are asked to provide information on the applicant's behalf that is also used in the admission process.

Respondents: Respondents consist of citizens seeking to apply for admission to the U.S. Merchant Marine Academy, school officials and other evaluators submitting supplemental information required to determine the most qualified applicants for offers of admission.

Affected Public: Individuals.

Estimated Number of Respondents: 2,000.

Estimated Number of Responses: 2,000.

Estimated Hours per Response: 3.

Annual Estimated Total Annual Burden Hours: 6,000.

Frequency of Response: One time in any given admission cycle.

(Authority: The Paperwork Reduction Act of 1995; 44 U.S.C. Chapter 35, as amended; and 49 CFR 1.49.)

By Order of the Maritime Administration.
T. Mitchell Hudson, Jr.,
Secretary, Maritime Administration.

[FR Doc. 2025-09597 Filed 5-28-25; 8:45 am]

BILLING CODE 4910-81-P